COMMISSION ON OCEAN POLICY

Public Meeting

AGENCY: Commission on Ocean Policy.

ACTION: Notice.

SUMMARY: The U.S. Commission on Ocean Policy will hold its eighth regional meeting, the Commission's tenth public meeting, to hear and discuss coastal and ocean issues of concern of the State of Alaska.

DATES: Public meetings will be held Wednesday, August 21, 2002 from 12:30 p.m. to 6 p.m. and Thursday, August 22, 2002 from 8:30 a.m. to 6 p.m.

ADDRESSES: The meeting location is the Hotel Captain Cook, Discovery Ballroom, 4th & K Street, Anchorage, AK 99501.

FOR FURTHER INFORMATION CONTACT: Terry Schaff, U.S. Commission on Ocean Policy, 1120 20th Street, NW., Washington, DC 20036, 202-418-3442, schaff@oceancommission.gov.

SUPPLEMENTARY INFORMATION: This meeting is being held pursuant to requirements under the Oceans Act of 2000 (Pub. L. 106-256, section 3(e)(1)(E)). The agenda will include presentations by invited speakers representing local and regional government agencies and non-governmental organizations, comments from the public and any required administrative discussions and executive sessions. Invited speakers and members of the public are requested to submit their statements for the record electronically by Monday, August 12, 2002 to the meeting Point of Contact. A public comment period is scheduled for Thursday, August 22, 2002. The meeting agenda, including the specific time for the public comment period, and guidelines for making public comments will be posted on the Commission's Website at http://www.oceancommission.gov prior to the meeting.

Dated: July 19, 2002.
Thomas R. Kitsos,
Executive Director, U.S. Commission on Ocean Policy.

[FR Doc. 02-18819 Filed 7-24-02; 8:45 am]

BILLING CODE 6820-WM-M